DEPARTMENT OF AGRICULTURE

Forest Service

Hood/Willamette Resource Advisory Committee

AGENCY: Forest Service, USDA.

ACTION: Action of meeting.

SUMMARY: The Hood/Willamette Resource Advisory Committee (RAC) will meet on Thursday, February 21, 2002. The meeting is scheduled to begin at 9 a.m. and will conclude at approximately 5 p.m. The meeting will be held at the Wilsonville Chamber of Commerce and Clackamas County Regional Visitor Information Center; 29600 SW. Park Place; Wilsonville, Oregon 97070; (503) 682-0411. The tentative agenda includes: Process for Reviewing and Prioritizing Projects; Review of Title II Project Submissions; RAC Operating Expenses; Information Sharing; Public Forum.

The Public Forum is tentatively scheduled to begin at 4 p.m. Time allotted for individual presentations will be limited to 3-4 minutes. Written comments are encouraged, particularly if the material cannot be presented within the time limits for the Public Forum. Written comments may be submitted prior to the February 21st meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: January 24, 2002.
Doris Tai,
Acting Deputy Forest Supervisor.

[FR Doc. 02-2313 Filed 1-30-02; 8:45 am]

BILLING CODE 3410-11-M